NUCLEAR REGULATORY COMMISSION

10 CFR Part 72

RIN 3150-AJ42

[NRC-2014-0120]

List of Approved Spent Fuel Storage Casks: Holtec International HI-STORM Underground Maximum Capacity Canister Storage System, Certificate of Compliance No. 1040

AGENCY: Nuclear Regulatory Commission.

ACTION: Direct final rule; withdrawal.

SUMMARY: The U.S. Nuclear Regulatory Commission (NRC) is withdrawing a direct final rule that would have added the Holtec International HI-STORM Underground Maximum Capacity (UMAX) Canister Storage System, Certificate of Compliance (CoC) No. 1040, to the “List of approved spent fuel storage casks.” The NRC is taking this action because it has received at least one significant adverse comment in response to a companion proposed rule that was concurrently published with the direct final rule.

DATES: Effective November 19, 2014, the NRC withdraws the direct final rule published at 79 FR 53281 on September 9, 2014.

ADDRESSES: Please refer to Docket ID NRC-2014-0120 when contacting the NRC about the availability of information for this action. You may access publicly-available information related to this action by any of the following methods:

• Federal Rulemaking Web site: Go to http://www.regulations.gov and search for Docket ID NRC-2014-0120. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Gregory R. Trussell, Office of Nuclear Material Safety and Safeguards, U.S. Nuclear Regulatory Commission, Washington, DC 20555-0001; telephone: 301-415-6445, email: Gregory.Trussell@nrc.gov.

SUPPLEMENTARY INFORMATION: On September 9, 2014 (79 FR 53281), the NRC published in the Federal Register a direct final rule amending its regulations in part 72 of Title 10 of the Code of Federal Regulations to add the Holtec International HI-STORM UMAX Canister Storage System, CoC No. 1040, to the “List of approved spent fuel storage casks.” The direct final rule was to become effective on November 24, 2014. The NRC also concurrently published a companion proposed rule on September 9, 2014 (79 FR 53352).

In the September 9, 2014, proposed rule, the NRC stated that if any significant adverse comments were received, then the NRC would withdraw the direct final rule by publishing a notice in the Federal Register. As a result, the direct final rule would not take effect. The NRC received 10 comments from private citizens which raised issues including inspections; seismic concerns; stress corrosion cracking; and aging management, among others. The comments are available at www.regulations.gov by searching on Docket ID NRC-2014-0120. The NRC determined that at least one of the comments is significant and adverse as defined in Section I, “Procedural Background,” of the direct final rule, because the comment raises an issue serious enough to warrant a substantive response to clarify or complete the record. Therefore, the NRC is withdrawing the direct final rule.

As stated in the September 9, 2014, proposed rule, the NRC will address the comments in a subsequent final rule. The NRC will not initiate a second comment period on this action.

Dated at Rockville, Maryland, this 13 day of November, 2014.
For the U.S. Nuclear Regulatory Commission.
Mark A. Satorius,
Executive Director for Operations.

[FR Doc. 2014-27398 Filed 11-18-14; 8:45 am]

BILLING CODE 7590-01-P